DEPARTMENT OF THE INTERIOR

Bureau of Land Management

[LLOR936000-L14300000-ET0000; HAG-0177; OROR-47417]

Notice of Application for Proposed Withdrawal Extension and Opportunity for Public Meeting; Oregon

AGENCY: Bureau of Land Management, Interior.

ACTION: Notice.

SUMMARY: The United States Forest Service (USFS) has filed an application with the Bureau of Land Management (BLM) requesting the Secretary of the Interior extend the duration of Public Land Order (PLO) No. 6986 for an additional 20-year term. PLO No. 6986 withdrew approximately 4,239.95 acres of National Forest System land from the United States mining laws in order to protect the scenic, recreation, and fish/wildlife habitat values in the scenic section of the Illinois Wild and Scenic River between the mouth of Deer Creek and the mouth of Briggs Creek. The withdrawal created by PLO No. 6986 will expire on June 30, 2013, unless extended. This notice also gives an opportunity to comment on the application and to request a public meeting.

DATES: Comments and requests for a public meeting must be received by October 31, 2012.

ADDRESSES: Comments and meeting requests should be sent to the BLM Oregon/Washington State Director, BLM, P.O. Box 2965, Portland, Oregon 97208-2965.

FOR FURTHER INFORMATION CONTACT: Michael L. Barnes, BLM Oregon/Washington State Office, 503-808-6155; or Dianne Torpin, USFS Pacific Northwest Region, 503-808-2422. Persons who use a telecommunications device for the deaf (TDD) may call the Federal Information Relay Service (FIRS) at 1-800-877-8339 to reach either of the contacts stated above. The FIRS is available 24 hours a day, 7 days a week, to leave a message or question with either of the above individuals. You will receive a reply during normal business hours.

SUPPLEMENTARY INFORMATION: The USFS has filed an application requesting that the Secretary of the Interior extend PLO No. 6986 (58 FR 35408 (1993)), which withdrew approximately 4,239.95 acres of National Forest System lands in the Siskiyou National Forest, from location and entry under the United States mining laws (30 U.S.C. ch. 2), but not from leasing under the mineral leasing laws, for an additional 20-year term, subject to valid existing rights. PLO No. 6986 is incorporated herein by reference.

The purpose of the proposed withdrawal extension is to continue the protection of the scenic, recreation, and fish/wildlife habitat values in the scenic section of the Illinois Wild and Scenic River between the mouth of Deer Creek and the mouth of Briggs Creek.

The use of a right-of-way, interagency agreement, or cooperative agreement would not provide adequate protection.

The USFS would not need to acquire water rights to fulfill the purpose of the requested withdrawal extension.

Records related to the application may be examined by contacting Michael L. Barnes at the above address or phone number.

For a period of 90 days from the date of publication of this notice in the Federal Register, all persons who wish to submit comments, suggestions, or objections in connection with the proposed withdrawal extension may present their views in writing to the BLM State Director at the address indicated above.

Comments, including names and street addresses of respondents, will be available for public review at the address indicated above during regular business hours.

Individual respondents may request confidentiality. Before including your address, phone number, email address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal extension. All interested parties who desire a public meeting for the purpose of being heard on the proposed withdrawal extension must submit a written request to the BLM State Director at the address indicated above by October 31, 2012. Upon determination by the authorized officer that a public meeting will be held, a notice of the time and place will be published in the Federal Register at least 30 days before the scheduled date of the meeting.

The application will be processed in accordance with the regulations set forth in 43 CFR 2310.4.

Authority: 43 CFR 2310.3-1(b).

Fred O'Ferrall,
Chief, Branch of Land, Mineral, and Energy Resources.

[FR Doc. 2012-18895 Filed 8-1-12; 8:45 am]

BILLING CODE 4310-33-P